DEPARTMENT OF VETERANS AFFAIRS

Solicitation of Nominations for Appointment to the Geriatrics and Gerontology Advisory Committee AMENDED

ACTION: Notice.

SUMMARY: The Department of Veterans Affairs (VA), Office of Geriatrics and Extended Care, is seeking nominations of qualified candidates to be considered for appointment as a member of the Geriatrics and Gerontology Advisory Committee (herein-after in this section referred to as “the Committee”). The Committee advises the VA Secretary and the Under Secretary for Health on all matters pertaining to geriatrics and gerontology.

DATES: Nominations of qualified candidates are being sought to fill two vacancies on the Committee. Nominations for membership on the Committee must be received no later than 5:00 p.m. EST on October 31, 2019.

ADDRESSES: All nominations should be mailed to Marianne Shaughnessy, Ph.D., CRNP, Geriatrics and Gerontology Advisory Committee (GGAC), Department of Veterans Affairs, 810 Vermont Ave. NW, (10NC4), Washington, DC 20420 or emailed to Marianne.Shaughnessy@va.gov.

FOR FURTHER INFORMATION CONTACT: Marianne Shaughnessy, Ph.D., CRNP, GGAC, by phone at (202) 461-7217 or by email at Marianne.Shaughnessy@va.gov. A copy of the Committee charter and list of the current membership can also be obtained by contacting Dr. Shaughnessy.

SUPPLEMENTARY INFORMATION: The Committee's areas of interest include but are not limited to: (1) Assessing the capability of VA health care facilities to respond with the most effective and appropriate services possible to the medical, psychological and social needs of Veterans facing the consequences of aging, serious illness or disability; and (2) advancing scientific knowledge to meet those needs by enhancing geriatric care for older Veterans through geriatric and gerontology research, the training of health personnel in the provision of health care to older individuals, and the development of improved models of clinical services for older Veterans.

Membership Criteria and Qualifications: The Committee is comprised of not more than 12 members, each of whom have established interest and considerable vocation-related experiences bearing on health care for aging Veterans, including experience in areas such as: VA- and non-VA health systems, academic geriatric and gerontology programs, palliative medicine, home and community-based care, nursing home care, relevant policy issues, and grant-funded academic research.

The expertise required of GGAC members includes, but is not limited to, the following:

a. Familiarity or experience with clinical and health policies concerning the elderly; and/or

b. familiarity or experience with the partnerships between VA and health sciences academic programs; and/or

c. familiarity with the history of geriatrics in the VA and in the US, and the unique role that has been played in that evolution by the VA's Geriatric Research, Education, and Clinical Centers (GRECCs).

Membership Requirements: The Committee holds at least one face to face meeting in Washington, DC and conducts 4-5 site visits a year. The ideal candidate will be willing to travel 3-5 times per year to help the Committee fulfill its Chartered objectives.

The Committee's diverse membership is characterized by a range of backgrounds and knowledge sufficiently broad to provide adequate advice and guidance to the Secretary. VA strives to develop a Committee membership that includes diversity in military services, ranks, and deployments, military service, military deployments, working with Veterans, committee subject matter expertise, as well as diversity in race/ethnicity, gender, religion, disability, geographical background, and profession. We ask that nominations include information of this type so that VA can ensure diverse Committee membership.

Requirements for Nomination Submission: Nominations should be typed (one nomination per nominator). Nomination package should include:

(1) A letter of nomination that clearly states the name and affiliation of the nominee, the basis for the nomination (i.e., specific attributes which qualify the nominee for service in this capacity), and a statement from the nominee indicating the willingness to serve as a member of the Committee;

(2) The nominee's contact information, including name, mailing address, telephone numbers, and email address;

(3) The nominee's curriculum vitae; and

(4) A summary of the nominee's experience and qualifications relative to the membership considerations described above.

Individuals selected for appointment to the Committee shall be invited to serve a four-year term. Committee members will receive a stipend for attending Committee meetings, including per diem and reimbursement for travel expenses incurred.

The Department makes every effort to ensure that the membership of VA federal advisory committees is diverse in terms of points of view represented and the committee's capabilities. Appointments to this Committee shall be made without discrimination because of a person's race, color, religion, sex, sexual orientation, gender identify, national origin, age, disability, or genetic information. Nominations must state that the nominee is willing to serve as a member of the Committee and appears to have no conflict of interest that would preclude membership.

Dated: September 19, 2019.
LaTonya L. Small,
Federal Advisory Committee Management Officer.

[FR Doc. 2019-20666 Filed 9-23-19; 8:45 am]

BILLING CODE P